DEPARTMENT OF TRANSPORTATION

Federal Railroad Administration

[Docket Number FRA-2003-15340]

Petition for Waiver of Compliance

In accordance with Part 211 of Title 49 Code of Federal Regulations (CFR), this document provides the public notice that by a letter dated November 28, 2013, the American Association of Private Railroad Car Owners (AAPRCO) petitioned the Federal Railroad Administration (FRA) for a renewal of its waiver of compliance from certain provisions of the Federal railroad safety regulations contained at 49 CFR Part 238, Passenger Equipment Safety Standards. FRA assigned the petition Docket Number FRA-2003-15340.

AAPRCO seeks renewal of its relief from 49 CFR 238.321(m)(2), Brake system. This section specifies that “up to two cars may be operated in direct release mode when the rest of the cars in the train are operated in graduated release mode, provided that the cars operated in direct release mode are hauled at the rear of the train consist.” The present relief provides that “up to two cars may be operated in direct release mode when the rest of the cars in the train are operated in graduated release mode,” thereby eliminating the placement restrictions of the direct release cars to the rear of the train. AAPRCO was granted its original relief in 2003; this relief was renewed for 5 years in 2008.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 17, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on May 27, 2014.
Robert C. Lauby,
Associate Administrator for Railroad Safety, Chief Safety Officer.

[FR Doc. 2014-12620 Filed 5-30-14; 8:45 am]

BILLING CODE 4910-06-P